DEPARTMENT OF HOUSING AND URBAN DEVELOPMENT

[Docket No. FR-5750-N-50]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, and suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Ritta, Ms. Theresa M. Ritta, Chief Real Property Branch, the Department of Health and Human Services, Room 5B-17, Parklawn Building, 5600 Fishers Lane, Rockville, MD 20857, (301) 443-6672 (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Ann Marie Oliva at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Agriculture: Ms. Debra Kerr, Department of Agriculture, Reporters Building, 300 7th Street SW., Room 300, Washington, DC 20024, (202) 720-8873; GSA: Mr. Flavio Peres, General Services Administration, Office of Real Property Utilization and Disposal, 1800 F Street NW., Room 7040 Washington, DC 20405, (202) 501-0084; NASA: Mr. Frank T. Bellinger, Facilities Engineering Division, National Aeronautics & Space Administration, Code JX, Washington, DC 20546, (202) 358-1124; Navy: Mr. Steve Matteo, Department of the Navy, Asset Management Division, Naval Facilities Engineering Command, Washington Navy Yard, 1330 Patterson Ave. SW., Suite 1000, Washington, DC 20374, (202) 685-9426 (These are not toll-free numbers).

Dated: December 5, 2014.
Brian P. Fitzmaurice,
Director, Division of Community Assistance, Office of Special Needs Assistance Programs.

TITLE V, FEDERAL SURPLUS PROPERTY PROGRAM, FEDERAL REGISTER REPORT FOR 12/12/2014

Suitable/Available Properties

Building

Kentucky

Quicksand Plant Materials Center

176 Robinson Road

Quicksand KY 41339

Landholding Agency: GSA

Property Number: 54201440005

Status: Surplus

GSA Number: 4-A-KY-0630-AA

Directions: Landholding Agency; Agriculture; Disposal Agency; GSA

Comments: 4 bldgs. totaling 7,674 sq. ft.; office/classroom/storage; fair conditions; sits on 4.01 acres; contact GSA for more information.

Wisconsin

Luepke Way Garage

207 Luepke Way

Medford WI 54451

Landholding Agency: Agriculture

Property Number: 15201440005

Status: Unutilized

Comments: off-site removal only; no future agency need; 96+ months vacant; 576 sq. ft.; roof & siding in poor conditions; wood structure; contact Agriculture for more information.

Suitable/Unavailable Properties

Land

North Carolina

Marine Corps Installations E.-

Marine Corps Base Camp Lejeune

Hwy 24, Montford Point Landing Rd. & Hwy 17

Jacksonville NC

Landholding Agency: Navy

Property Number: 77201440022

Status: Underutilized

Directions: previously reported under HUD property # 77200720051 under a larger parcel

Comments: 3 acres Lejeune Memorial gardens; contact Navy for more information.

Unsuitable Properties

Building

California

Trailer 1718

4800 Oak Grove Drive

Pasadena CA 91109

Landholding Agency: NASA

Property Number: 71201440016

Status: Excess

Comments: public access denied and no alternative method to gain access w/out compromising national security.

Reasons: Secured Area.

Florida

4 Building

Naval Air Station

Pensacola FL 32509

Landholding Agency: Navy

Property Number: 77201440020

Status: Unutilized

Directions: 2472; 2421; 856; 2403

Comments: public access denied and no alternative w/out compromising national security.

Reasons: Secured Area.

2 Building

Naval Air Station

Pensacola FL 32509

Landholding Agency: Navy

Property Number: 77201440021

Status: Underutilized

Directions: 2402; 586A

Comments: public access denied and no alternative w/out compromising national security.

Reasons: Secured Area.

Maryland

1645 Vertical EMP Test

Facility

McCauley Road

Patuxent River MD

Landholding Agency: Navy

Property Number: 77201440019

Status: Excess

Comments: public access denied and no alternative w/out compromising national Security.

Reasons: Secured Area.

[FR Doc. 2014-29075 Filed 12-11-14; 8:45 am]

BILLING CODE 4210-67-P